DEPARTMENT OF COMMERCE

National Oceanic and Atmospheric Administration

RIN 0648-XA162

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council) and its Squid, Mackerel, Butterfish Committee with Advisors, its Surfclam/Ocean Quahog/Tilefish Committee, its Ecosystem/Ocean Planning Committee, its Research Set-Aside (RSA) Committee and its, Executive Committee will hold public meetings.

DATES: The meetings will be held Tuesday, February 8, 2011 through Thursday, February 10, 2011. See SUPPLEMENTARY INFORMATION for specific dates and times.

ADDRESSES: The meetings will be held at the Hilton New Bern, 100 Middle Street, New Bern, NC 28560; telephone: (252) 638-3585.

Council address: Mid-Atlantic Fishery Management Council, 800 N. State St., Suite 201, Dover, DE 19901; telephone: (302) 674-2331.

FOR FURTHER INFORMATION CONTACT: Christopher M. Moore, PhD, Executive Director, Mid-Atlantic Fishery Management Council; telephone: (302) 526-5255.

SUPPLEMENTARY INFORMATION:

Tuesday, February 8, 2011

1 p.m. until 5 p.m.—The Squid, Mackerel, Butterfish Committee with Advisors will meet.

Wednesday, February 9, 2011

8 a.m. until 9 a.m.—The Surfclam/Ocean Quahog/Tilefish Committee will meet.

9 a.m. until 10:30 a.m.—The Ecosystem Committee will meet.

10:30 a.m. until 12 noon—The RSA Committee with meet.

1 p.m.—The Council will convene.

1 p.m. until 2:30 p.m.—The Council will receive a presentation entitled Lessons Learned from the Transition to Sectors.

2:30 p.m. until 3:30 p.m.—The Shad/River Herring Committee will meet as a Committee of the Whole.

3:30 p.m. until 4 p.m.—The 51st Stock Assessment Review will be held.

4 p.m. until 4:30 p.m.—The Council will discuss Framework Adjustment 7 to the Monkfish FMP.

4:30 p.m. until 6 p.m.—A Monkfish Scoping Meeting will be held.

Thursday, February 10, 2011

8 a.m. until 9 a.m.—The Executive Committee will meet.

9 a.m. until 1 p.m.—The Council will hold its regular Business Session to approve the December minutes, receive Organizational Reports, the New England Liaison Report, the Executive Director's Report, the status of the FMP's, Committee Reports, and conduct any continuing and/or new business.

Agenda items by day for the Council's Committees and the Council itself are:

Tuesday, February 8—The Squid, Mackerel, and Butterfish Committee with Advisors will review the Fishery Management Action Team (FMAT) and the staff's work to date on Amendment 14 and provide feedback to the FMAT and staff for continued development of alternatives and consider the fall 2010 NEFSC butterfish trawl data.

Wednesday, February 9—The Surfclam/Ocean Quahog/Tilefish Committee will review development of Amendment 15 and discuss PSP monitoring for opening of George's Bank. The Ecosystem/Ocean Planning Committee will review the recommendations from the December Habitat-Ecosystem Workshop and develop recommendations for project priorities. The RSA Committee will discuss the RSA program review. The Council will convene to hear a presentation provided by Gulf of Maine Research Institute regarding the Lessons Learned from the Transition to Sectors. The Shad/River Herring Committee will meet as a Committee of the Whole to review the progress to date and provide direction to the Committee/Staff as necessary. The Council will hear the 51st Stock Assessment Review of the Loligo and Hake fisheries. Final action will be taken on Framework Adjustment 7 to the Monkfish FMP to include revised biomass reference points and a Northern Management Area Annual Catch Target (ACT), as well as days-at-sea and trip limits for the 2011-13 fishing years. A Monkfish Scoping Meeting for Amendment 6 regarding catch shares will be held.

Thursday, February 10—The Executive Committee will discuss the AP Fishery performance report development update, an MREP update with Council engagement, a visioning update, a communications update, and the selection of the Ricks E Savage Award. The Council will hold its regular Business Session to approve the December minutes, receive Organizational Reports, the New England Liaison Report, the Executive Director's Report, Status of the FMP's, Committee Reports, and conduct any continuing and/or new business including possible action on SSC member nominations.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: January 18, 2011.
William D. Chappell,
Acting Director, Office of Sustainable Fisheries, National Marine Fisheries Service.

[FR Doc. 2011-1255 Filed 1-20-11; 8:45 am]

BILLING CODE 3510-22-P